NATIONAL SCIENCE INFORMATION

Agency Information Collection Activities: Proposed Collection; Comment Request

AGENCY: National Science Foundation.

ACTION: Notice.

SUMMARY: The National Science Foundation (NSF) is announcing plans to request clearance of this collection. In accordance with the requirement of section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) The accuracy of the Agency's estimate of the burden of the proposed collection of information; (c) Ways to enhance the quality, utility, and clarity of the information on respondents, including through the use of automated collection techniques or other forms of information technology; and (d) Ways to minimize the burden of the collection of information on respondents, including through the use of automated collection techniques or other forms of information technology.

DATES: Written comments should be received by January 2, 2002, to be assured of consideration. Comments received after that date would be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: The Evaluation of NSF's Graduate Teaching Fellows in K-12 Education (GK-12) Program.

OMB Control No.: 3145-New.

Expiration Date of Approval: Not applicable.

1. Abstract: This document has been prepared to support the clearance of data collection instruments to be used in the evaluation of the Graduate Teaching Fellows in K-12 Education (GK-12). GK-12 is a fellowship that offers graduate students and advanced undergraduates the opportunity to serve as resources for K-12 teachers of science and mathematics. The study design focuses on GK-12 projects funded during the period 1999-2002 and involves two types of studies. One consists of Case Studies of three cohorts of GK-12 projects. The second is a survey of all GK-12 projects funded in this time period. This OMB submission seeks clearance for data collection instruments for both studies.

2. Expected Respondents: The expected respondents are GK-12 Fellows, Cooperating Teachers in the school districts where the Fellows are placed, Principal Investigators, and other educators associated directly with the GK-12 Program.

3. Burden on the Public: The total elements for this collection is 1,823 burden hours for a maximum of 3,645 participants assuming an 80-100% response rate. The average annual reporting burden is 2 hours per respondent. The burden on the public is negligible; the study is limited to project participants that have received funding from the NSF GK-12 program.

Dated: October 29, 2001.
Suzanne H. Plimpton,
NSF Reports Clearance Officer.

[FR Doc. 01-27489 Filed 11-1-01; 8:45 am]

BILLING CODE 7555-01-M